DEPARTMENT OF LABOR

Employment and Training Administration

[TA-W-64,918]

Lehman Brothers, Incorporated, New Haven, CT; Notice of Termination of Investigation

Pursuant to Section 221 of the Trade Act of 1974, as amended, an investigation was initiated on January 16, 2009 in response to a petition filed by the Rapid Response Coordinator for the State of Connecticut on behalf of workers of Lehman Brothers, Incorporated, New Haven, Connecticut.

The petitioner has requested that the petition be withdrawn. Consequently, the investigation has been terminated.

Signed at Washington, DC, this 16th day of April 2009.
Richard Church,
Certifying Officer, Division of Trade Adjustment Assistance.

[FR Doc. E9-10900 Filed 5-8-09; 8:45 am]

BILLING CODE 4510-FN-P